COMMISSION ON CIVIL RIGHTS

Agenda and Notice of Public Meeting of the Kentucky Advisory Committee

Notice is hereby given, pursuant to the provisions of the rules and regulations of the U.S. Commission on Civil Rights (Commission), and the Federal Advisory Committee Act (FACA), that a meeting of the Kentucky Advisory Committee (Committee) to the Commission will convene on Thursday, May 20, 2010 at 1 p.m. and adjourn at approximately 4 p.m. (EST) at Gardiner Hall, Room 310, University of Louisville, Louisville, KY. The purpose of the meeting is for the Committee to discuss its report on disparate discipline of minority youth by public school districts.

Members of the public are entitled to submit written comments. The comments must be received in the Southern Regional Office by June 20, 2010. The mailing address is Southern Regional Office, U.S. Commission on Civil Rights, 61 Forsyth Street, Suite 18T40, Atlanta, GA 30301. Persons wishing to e-mail their comments may do so to pminarik@usccr.gov. Persons that desire additional information should contact Peter Minarik, Regional Director, Southern Regional Office, at (404) 562-7000 (or for hearing impaired TDD (913) 551-1414).

Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, http://www.usccr.gov, or to contact the Southern Regional Office at the above e-mail or street address.

The meeting will be conducted pursuant to the provisions of the rules and regulations of the Commission and FACA.

Dated in Washington, DC, April 26, 2010.
Peter Minarik,
Acting Chief, Regional Programs Coordination Unit.

[FR Doc. 2010-10052 Filed 4-29-10; 8:45 am]

BILLING CODE 6335-01-P